DEPARTMENT OF LABOR

Employment and Training Administration

[TA-W-72,029]

Automotive Components Holdings, LLC, a Subsidiary of Ford Motor Company, Saline Plant Division, Including Workers Whose Wages Were Reported Under Ford Company, Visteon, MSX International, W.J. O'Neil Company, and Unibar, Saline, MI; Notice of Revised Determination on Reconsideration

On October 7, 2010, the Department issued a Notice of Affirmative Determination Regarding Application for Reconsideration for the workers and former workers of Automotive Components Holdings, LLC, a Subsidiary of Ford Motor Company, Saline Plant Division, Saline, Michigan (subject firm) to apply for Trade Adjustment Assistance (TAA). The Department's Notice was published in the Federal Register on October 25, 2010 (75 FR 65514). The workers are engaged in employment related to the production of interior automotive component parts. The worker group includes workers whose wages were reported under Ford Company, Visteon, MSX International, W.J. O'Neil Company, and Unibar.

New information provided by subject firm officials, the United Automobile, Aerospace, and Agricultural Implement Workers of America (UAW), Local 1124, and the State of Michigan workforce officials, revealed that workers and former workers of the subject firm, including workers whose wages were reported under Ford Company, Visteon, MSX International, W.J. O'Neil Company, and Unibar, meet the certification criteria.

During the reconsideration investigation, the Department received additional information regarding the subject firm's staffing arrangements with Ford Company and Visteon and how the Saline, Michigan facility operated in conjunction with affiliated production facilities, including those that have employed worker groups eligible to apply for TAA.

Criterion I has been met because a significant number or proportion of workers at the subject firm were totally separated.

Criterion II has been met because sales and production of interior automotive component parts at the subject firm decreased absolutely during the relevant period.

Criterion III has been met because imports of articles like or directly competitive with the interior automotive component parts produced by Automotive Components Holdings, LLC, a Subsidiary of Ford Motor Company, Saline Plant Division, Saline, Michigan, increased during the relevant period and contributed importantly to worker separations at the Saline, Michigan facility.

Conclusion

After careful review of the additional facts obtained on reconsideration, I determine that workers and former workers of Automotive Components Holdings, LLC, a Subsidiary of Ford Motor Company, Saline Plant Division, Saline, Michigan, who are engaged in employment related to the production of interior automotive component parts, meet the worker group certification criteria under Section 222(a) of the Act, 19 U.S.C. 2272(a).

In accordance with Section 223 of the Act, 19 U.S.C. 2273, I make the following certification:

All workers of Automotive Components Holdings, LLC, a Subsidiary of Ford Motor Company, Saline Plant Division, including workers whose wages were reported under Ford Company, Visteon, MSX International, W.J. O'Neil Company, and Unibar, Saline, Michigan, who became totally or partially separated from employment on or after August 13, 2008, through two years from the date of this revised certification, and all workers in the group threatened with total or partial separation from employment on date of certification through two years from the date of certification, are eligible to apply for adjustment assistance under Chapter 2 of Title II of the Trade Act of 1974, as amended.

Signed in Washington, DC, this 2nd day of May, 2011.
Del Min Amy Chen,
Certifying Officer, Office of Trade Adjustment Assistance.

[FR Doc. 2011-11642 Filed 5-11-11; 8:45 am]

BILLING CODE 4510-FN-P